DEPARTMENT OF HEALTH AND HUMAN SERVICES

Meeting of the President's Council on Bioethics

AGENCY: Department of Health and Human Services.

ACTION: Notice of meeting location and time change.

SUMMARY: The President's Council on Bioethics will hold its first meeting to discuss its agenda and future activities. This notice is to provide the exact location of the meeting and notice of a time change.

DATES: Meetings will be held on Thursday, January 17, 2002, from 8:30 a.m. to 6 p.m., and Friday, January 18, 2002, from 8:30 a.m. to 1 p.m.

ADDRESSES: The meeting will take place in Washington, DC at the L'Enfant Plaza Loews Hotel in Ballrooms C & D, 480 L'Enfant Plaza, SW, Washington, DC 20024. The phone number is (202) 484-1000.

FOR FURTHER INFORMATION CONTACT: Ms. Deborah McMahon, President's Council on Bioethics, Sixth Floor, 1801 Pennsylvania Avenue, NW., Washington, DC 20036, (202) 296-4694.

SUPPLEMENTARY INFORMATION: The agenda of the meeting will include discussion of the future activities of the President's Council on Bioethics, a Presidential advisory committee established by executive order to, among other things, conduct fundamental inquiry into the moral and human meaning of developments in biomedical science and technology. The meeting will include a period for comments from the public and any required administrative discussions and executive sessions. Due to unforeseen circumstances, this notice is published less than 15 calendar days prior to the Council's meeting date (see 41 CFR 102-3.150).

Dated: January 12, 2002.
Dean Clancy,
Executive Director, President's Council on Bioethics.

[FR Doc. 02-1169 Filed 1-16-02; 8:45 am]

BILLING CODE 4151-05-P